DEPARTMENT OF JUSTICE

Antitrust Division

Notice Pursuant to the National Cooperative Research and Production Act of 1993—Application Service Provider Industry Consortium, Inc.

Notice is hereby given that, on August 1, 2000, pursuant to section 6(a) of the National Cooperative Research and Production Act of 1993, 15 U.S.C. 4301 et seq. (“the Act”), Application Service Provider Industry Consortium, Inc. has filed written notifications simultaneously with the Attorney General and the Federal Trade Commission disclosing changes in its membership status. The notifications were filed for the purpose of extending the Act's provisions limiting the recovery of antitrust plaintiffs to actual damages under specified circumstances. Specifically, IT Support Center, Inc., Dothan, AL; Atraxis, Zurich, Switzerland; eCompany, Corona del Mar, CA: Xcert International Inc., Walnut Creek, CA; Stamps.com, Bellevue, WA; Datatrend Technologies, Inc., Minnetonka, MN; b2bsolutionsonline, Billingham, Teesside, England, United Kingdom, Zkey.com, Los Angeles, CA; PSINet Consulting Solutions, Alpharetta, GA; Data Research Associates, Inc., St. Louis, MO; Dataroam Limited, Slough, SLI iXS, England, United Kingdom, Inciscent, Falls Church VA; Alcatel Internetworking, Milpitas, CA; Interquad, Berkshire, SL1 4QU, England, United Kingdom; Manhattan Associates, Inc., Atlanta, GA; Intraware, Inc., Orinda, CA; Handtech.com, Austin, TX; Network Technology Group, Baton Rouge, LA; Digital Fuel Technologies Inc., Jerusalem, Israel; Thor Technologies, Inc., New York, NY; Stratus Computer (DE) Inc., Maynard, MA; Super-office Ltd., Wan Chai, Hong Kong-China; RSA Security, Bedford, MA; aspRegistry.com, Pleasanton, CA; Mercadien Technologies, Princeton, NJ; Bridge2Market, Inc., Menlo Park, CA; UPAQ Ltd., Zurich, Switzerland; Oblicore Inc., Ramat-Gan, Israel; Peakhour Pty Ltd., East Sydney NSW, Australia; EC Cubed, Inc., Westborough, MA; Tifica, Sao Palo, Brazil; WebPLAN, Kanata, Ontario, Canada; Aprisma Management Technologies, Durham, NH; Healthlink, Huntersville, NC; Vencomm.net, Denver, CO; Eagle Development Group Inc., Newton, MA; PurePacket Communications, Inc., Alpharetta, GA; New World Apps, Inc., Vienna, VA; US Data Authority, Inc., Boca Raton, FL; MetraTech Corp., Waltham, MA; Telution, Chicago, IL; Mission Critical Linux, Lowell, MA; Resonate, Inc., Sunnyvale, CA; eurobenefits, London, United Kingdom; CommerceRoute, Seattle, WA; Relevant Business Systems, San Ramon, CA; Nexsi Corporation, San Jose, CA; b2bscene.com, Div. of Open Text Corp., Waterloo, Ontario, Canada; Multrix Group, N.V., Amsterdam, The Netherlands; dakota imaging, inc., Columbia, MD; 2nd Century Communications, Arlington, VA; Foreshock, Inc., Irvine, CA; EzCommerce Inc., San Jose, CA; Freeliant.com, Inc., Memphis, TN; Insight Satellite, Ponte Vedra Beach, FL; Sevina Technologies plc, London, United Kingdom; Yes Trader, Inc., Chicago, IL; Centrity Inc., Markham, Ontario, Canada; Allegrix, Santa Clara, CA; Affinity Internet, Inc., El Segundo, CA; Best Software, Reston, VA; Redbourne, Berkhamstead Herts, United Kingdom; ASP Outsourcing Center, Dallas, TX; OpenforFeedback.com, Leidschendam, The Netherlands; Abridean Inc., Halifax, Nova Scotia, Canada; Tundo, Westborough, MA; Informative Graphics Corporation (IGC), Phoenix, AZ; Adlex Corporation, Marlborough, MA; IT Utility, Alpharetta, GA; Quickstream Software, Inc., Colorado Springs, CO; Xeno Group, San Francisco, CA; Vector esp, Inc., Houston, TX; WebHarbor.com, Inc., Sunnyvale, CA; Dirig Software, Nashua, NH; Cambridge Interactive, Inc., Cambridge, MA; Brightmail, Inc., San Francisco, CA; FireSummit, Inc., St. Paul, MN; Healthcare.com Corporation, Marietta, GA; Sphera, New York, NY; Easynet Group, London, United Kingdom; Albion Connect, Inc., Atlanta, GA; eCollege.com, Denver, CO; Schlumberger GeoQuest, Houston, TX; Network Access Solutions, Sterling, VA; Belenos, Boston, MA; Alinco Computers Inc., Buena Park, CA; and Extent Technologies, Inc., Reston, VA have been added as parties to this venture. Also, Jurisdiction USA, Phoenix, AZ; @atlas e-Solutions, Inc., San Francisco, CA; Velocity.com f/k/a OrganicNet Inc., San Francisco, CA; Paramount Technologies, Inc., Southfield, MI; Sound Computer Services, Altoona, PA; ThinRetail, Inc., Seattle, WA; Thintelectron Service Laboratories, Ormond Beach, FL; and Blue Sky, Delray Beach, FL have been dropped as parties to this venture.

No other changes have been made in either the membership or planned activity of the group research project. Membership in this group research project remains open, and Application Service Provider Industry Consortium, Inc. intends to file additional written notification disclosing all changes in membership.

On July 28, 1999, Application Service Provider Industry Consortium, Inc. filed its original notification pursuant to Section 6(a) of the Act. The Department of Justice published a notice in the Federal Register pursuant to Section 6(b) of the Act on March 21, 2000 (65 FR 15174).

The last notification was filed with the Department on April 27, 2000. A notice was published in the Federal Register pursuant to Section 6(b) of the Act on August 11, 2000 (65 FR 49260).

Constance K. Robinson,
Director of Operations, Antitrust Division.

[FR Doc. 00-28177 Filed 11-01-00; 8:45 am]

BILLING CODE 4410-11-M